DEPARTMENT OF HEALTH AND HUMAN SERVICES

National Institutes of Health

Fogarty International Center; Amended Notice of Meeting

Notice is hereby given of a change in the meeting of the Fogarty International Center Advisory Board, September 14, 2015, 01:00 p.m. to September 15, 2015, 03:00 p.m., National Institutes of Health, 16 Center Drive, Lawton L. Chiles International House, Bethesda, MD, 20892 which was published in the Federal Register on August 11, 2015, 80 FR 48115.

The meeting is being amended to change the time of the meeting. The closed session will be Sept. 14 from 1:00 p.m.-2:15 p.m., then the open session @2:30 p.m. and adjourn @ 5:15 p.m. Open session Sept.15 from 9 a.m. and adjourn @ 12:00 noon. The meeting is partially closed to the public.

Dated: August 26, 2015.
Michelle Trout,
Program Analyst, Office of Federal Advisory Committee Policy.

[FR Doc. 2015-21529 Filed 8-31-15; 8:45 am]

BILLING CODE 4140-01-P